DEPARTMENT OF COMMERCE

National Institute of Standards and Technology

[Docket Number 0911121400-91403-01]

Summer Undergraduate Research Fellowships (SURF) NIST Gaithersburg and Boulder Programs; Availability of Funds

AGENCY: National Institute of Standards and Technology, Commerce.

ACTION: Notice.

SUMMARY: The National Institute of Standards and Technology (NIST) announces that the following programs are soliciting applications for financial assistance for FY 2010: (1) The NIST Gaithersburg Summer Undergraduate Research Fellowship Programs, and (2) the NIST Boulder Summer Undergraduate Research Fellowship Programs. Each program will only consider applications that are within the scientific scope of the program as described in this notice and in the detailed program descriptions found in the Federal Funding Opportunity (FFO) announcement for these programs.

DATES: See below.

ADDRESSES: See below.

SUPPLEMENTARY INFORMATION:

Catalog of Federal Domestic Assistance Name and Number: Measurement and Engineering Research and Standards—11.609.

Summer Undergraduate Research Fellowships (SURF) NIST Gaithersburg and Boulder Programs

Program Description: The SURF NIST Gaithersburg Programs are soliciting applications in the areas of Electronics and Electrical Engineering, Manufacturing Engineering, Nanoscale Science and Technology, Chemical Science and Technology, Physics, Materials Science and Engineering/Neutron Research, Building and Fire Research, and Information Technology as described in the Federal Funding Opportunity.

The SURF NIST Boulder Programs are soliciting applications in the areas of Electronics and Electrical Engineering, Chemical Science and Technology, Physics, Materials Science and Engineering, and Information Technology as described in the Federal Funding Opportunity.

Applications for the Gaithersburg and Boulder programs are separate. Application to one program does not constitute application to the other, and applications will not be exchanged between the Gaithersburg and Boulder programs. If applicants wish to be considered at both sites, two separate applications must be submitted.

Both SURF programs provide an opportunity for the NIST laboratories and the National Science Foundation (NSF) to join in a partnership to encourage outstanding undergraduate students to pursue careers in science and engineering. The programs provide research opportunities for students to work with internationally known NIST scientists, to expose them to cutting-edge research and promote the pursuit of graduate degrees in science and engineering.

The SURF NIST Gaithersburg and Boulder Program Directors will work with appropriate department chairs, outreach coordinators, and directors of multi-disciplinary academic organizations to identify outstanding undergraduates (including graduating seniors) who would benefit from off-campus summer research in a world-class scientific environment.

The objective of the SURF programs is to build a mutually beneficial relationship among the student, the institution, and NIST. NIST is one of the nation's premiere research institutions for the physical and engineering sciences and, as the lead Federal agency for technology transfer, it provides a strong interface between government, industry and academia. NIST's mission is to promote U.S. innovation and industrial competitiveness by advancing measurement science, standards, and technology in ways that enhance economic security and improve our quality of life. NIST embodies a science culture, developed from a large and well-equipped research staff that enthusiastically blends programs that address the immediate needs of industry with longer-term research that anticipates future needs. This occurs in few other places and enables the Electronics and Electrical Engineering Lab (EEEL), Manufacturing Engineering Lab (MEL), Center for Nanoscale Science and Technology (CNST), Chemical Science and Technology Lab (CSTL), Physics Lab (PL), Materials Science and Engineering Lab (MSEL)/NIST Center for Neutron Research (NCNR), Building and Fire Research Lab (BFRL), and Information Technology Lab (ITL) to offer unique research and training opportunities for undergraduates, providing them a research-rich environment and exposure to state of the art equipment.

EEEL, MEL, CNST, CSTL, PL, MSEL/NCNR, BFRL, and ITL SURF NIST Gaithersburg Programs

DATES: All SURF NIST Gaithersburg Program applications, paper and electronic, must be received no later than 5 p.m. Eastern Standard Time on February 16, 2010.

ADDRESSES: For all SURF NIST Gaithersburg Programs, paper applications must be submitted to: Ms. Anita Sweigert, Administrative Coordinator, SURF NIST Gaithersburg Programs, National Institute of Standards and Technology, 100 Bureau Drive, Stop 8400, Gaithersburg, MD 20899-8400.

FOR FURTHER INFORMATION CONTACT: Program questions should be addressed to Ms. Anita Sweigert, Administrative Coordinator, SURF NIST Gaithersburg Programs, National Institute of Standards and Technology, 100 Bureau Drive, Stop 8400, Gaithersburg, MD 20899-8400, Tel: (301) 975-4200, E-mail: anita.sweigert@nist.gov. The SURF NIST Gaithersburg Program Web site is: http://www.surf.nist.gov/surf2.htm. All grants related administration questions concerning this program should be directed to Hope Snowden, NIST Grants and Agreements Management Division at (301) 975-6002 or hope.snowden@nist.gov, or for assistance with using Grants.gov contact support@grants.gov.

SUPPLEMENTARY INFORMATION: Electronic Access: NIST strongly encourages all applicants to read the Federal Funding Opportunity Notice (FFO) available at http://www.grants.gov for complete information about this program and its requirements, and instructions for applying by paper or electronically. A paper copy of the FFO may be obtained by calling (301) 975-6328. The Gaithersburg and Boulder SURF programs will publish separate FFOs on http://www.grants.gov.

Funding Availability: Funds budgeted for payments to students under these programs are stipends, not salary. The stipend is an amount that is expected to be provided to the participating student to help defray the cost of living, for the duration of the program, in the Washington National Capital Region. The SURF NIST Gaithersburg Programs will not authorize funds for indirect costs or fringe benefits. The table below summarizes the anticipated annual funding levels from the NSF to operate our REU (Research Experience for Undergraduates) programs, subject to program renewals and availability of funds. In some programs, anticipated NIST co-funding will supplement the number of awards supported. Program funding will be available to provide for the costs of stipends ($409.09 per week per student), travel, and lodging (up to $3,400 per student).

Program | Anticipated NSF funding | Anticipated NIST funding | Total program funding | Anticipated No. of awards
EEEL | $72,960 | $40,000 | $112,960 | ~13
MEL | 87,000 | 0 | 87,000 | ~10
CNST | 47,400 | 0 | 47,400 | ~6
CSTL | 0 | 105,000 | 105,000 | ~13
PL | 116,000 | 65,000 | 181,000 | ~22
MSEL/NCNR | 130,000 | 0 | 130,000 | ~16
BFRL | 81,000 | 0 | 81,000 | ~9
ITL | 0 | 40,000 | 40,000 | ~5

The actual number of awards made under this announcement will depend on the proposed budgets and the availability of funding. For all SURF NIST Gaithersburg Programs described in this notice, it is expected that awards to institutions will range from approximately $3,000 to $70,000. Funding for student housing will be included in cooperative agreements awarded as a result of this notice.

The SURF NIST Gaithersburg Program is anticipated to run from May 24, 2010 through August 6, 2010; adjustments may be made to accommodate specific academic schedules (e.g., a limited number of 9-week cooperative agreements may be shifted in order to accommodate institutions operating on quarter systems).

Statutory Authority: The authority for the SURF NIST Gaithersburg Program is 15 U.S.C. 278g-l, which authorizes NIST to fund financial assistance awards to students at institutions of higher learning within the United States who show promise as present or future contributors to the mission of the Institute.

Eligibility: NIST's SURF Gaithersburg Programs are open to colleges and universities in the United States and its territories with degree granting programs in materials science, chemistry, nanoscale science, neutron research, engineering, computer science, mathematics, or physics. Participating students must be U.S. citizens or permanent U.S. residents.

Cost Sharing or Matching: The SURF NIST Gaithersburg Programs do not require any cost sharing or matching funds.

Review and Selection Process: All SURF NIST Gaithersburg Program proposals must be submitted to the Administrative Coordinator listed in the ADDRESSES section above. Each proposal is examined for completeness and responsiveness. Incomplete or non-responsive proposals will not be considered for funding, and the applicant will be notified in writing. The Program will retain one copy of each non-responsive application for three years for record keeping purposes. The remaining copies will be destroyed. Proposals should include the required forms listed in the FFO. Proposals must also include the following information:

(A) Student Information (student's name and university should appear on all of these documents):

(1) Student application information cover sheet;

(2) Academic transcript for each student nominated for participation (it is recommended that students have a G.P.A. of 3.0 or better, out of a possible 4.0);

(3) A statement of motivation and commitment from each student to participate in the 2010 SURF program, including a description of the student's prioritized research interests;

(4) A resume for each student;

(5) Two letters of recommendation for each student that should address paragraph (A) of the evaluation criteria below; and

(6) Copy of passport, green card, or birth certificate as confirmation of U.S. citizenship or permanent legal resident status for each student.

(B) Information About the Applicant Institution:

(1) Description of the institution's education and research programs; and

(2) A summary list of the student(s) being nominated.

Institution proposals will be separated into student/institution packets. Each student/institution packet will be comprised of the required application forms, including a complete copy of the student information and a complete copy of the institution information. The student/institution packets will be directed to the SURF NIST Gaithersburg Program designated by the student as his/her first choice.

The selection process occurs in three rounds. Each SURF NIST Gaithersburg Program will have three independent, objective NIST employees, who are knowledgeable in the scientific areas of the program, conduct a technical review of each student/institution packet based on the Evaluation Criteria for the SURF NIST Gaithersburg Programs described in this notice. For the first round of evaluations and placement, each technical reviewer will evaluate according to the Evaluation Criteria listed below and provide a score for each student/institution packet. Based on the average of the reviewers' scores, a rank order of the student/institution packets will be prepared within each laboratory.

The SURF Program Director (Selecting Official) for each laboratory, who is a NIST program official who did not participate in the technical evaluations, will then apply the following Selection Factors, which may result in revisions to the rank order: relevance of the student's course of study to the program objectives of the NIST laboratory in which that SURF NIST Gaithersburg Program resides as described in the Program Description section of this notice and the corresponding Federal Funding Opportunity, the relevance of the student's statement of commitment to the goals of the SURF NIST Gaithersburg Program, fit of the student's interests and abilities to the available projects in that laboratory program, compatibility of the student with the research environment in that laboratory, assessment of whether the laboratory experience is a new opportunity for the student which may encourage future postgraduate training, and the availability of funding.

Based on these results, the Program Director (Selecting Official) for each laboratory will divide the rank ordered student/institution packets into three categories: Priority Funding; Fund if Possible; and Do Not Fund. Student/institution packets placed in the Priority Funding category will be selected for funding in that SURF NIST Gaithersburg Program, contingent upon availability of funds. Student/institution packets placed in the Do Not Fund category will not be considered for funding by any other NIST laboratory.

Student/institution packets placed in the Fund if Possible Category may be considered for funding at a later time by the category-designating SURF Program (The “category-designating” program is that Laboratory Program whose Program Director first categorized the applicant packet as “Priority Funding”, “Fund if Possible”, or “Do Not Fund.” This is the same Laboratory Program which was designated by the student in the application cover sheet as his/her first choice); in the interim period these students will be released for consideration for funding by the SURF NIST Gaithersburg Program designated by the student as his/her second choice. The student's second choice laboratory's SURF Program Director will take into consideration the recommendations of the reviewers who conducted the technical reviews for the student's first choice SURF NIST Gaithersburg Program, apply the selection factors noted above as applied to that laboratory and arrive at a final rank order of the students available for the second round of selections and placements. Any SURF NIST Gaithersburg Program may choose not to participate in the second round, if the Program Director does not see suitable students in the second round appropriate for the available projects. Students not selected during the first or second round are available for the third round of selections.

Students not selected for funding by their first or second choice SURF NIST Gaithersburg Program, and students who did not designate a second choice, will then be considered for funding from all SURF NIST Gaithersburg Programs that still have slots available in a third round, conducted using the same process as the second round. In making selections for the third round of selections and placement, each SURF NIST Gaithersburg Program Director (Selecting Official) will take into consideration the recommendations of the reviewers who conducted the technical reviews for the student's first choice SURF NIST Gaithersburg Program, the selection factors noted above as applied to that laboratory and rank order the students in this selection round. Any SURF NIST Gaithersburg Program may choose not to participate in the third round if there are no slots available. Substitutions for students who decline offers will be made from the remaining pool of ranked students consistent with the program review process.

The final approval of selected applications and award of cooperative agreements will be made by the NIST Grants Officer based on compliance with application requirements as published in this notice and other applicable legal and regulatory requirements. NIST also reserves the right to reject an application where information is uncovered that reflects adversely on an applicant's business integrity, resulting in a determination by the Grants Officer that an applicant is not presently responsible. Applicants may be asked to modify objectives, work plans, or budgets and provide supplemental information required by the agency prior to award. The decision of the Grants Officer is final.

The SURF NIST Gaithersburg Programs will retain one copy of each unsuccessful application for three years for record keeping purposes, and unsuccessful applicants will be notified in writing. The remaining copies will be destroyed.

Evaluation Criteria: For the SURF NIST Gaithersburg Programs, the evaluation criteria are:

(A) Evaluation of Student's Interest in Participating in the Program, Academic Ability, Laboratory Experience and Advanced Degree Interest: Evaluation of completed course work, English proficiency, writing proficiency, safety consciousness, research skills, social skills, leadership potential, innovativeness, independence, honesty, grade point average in courses relevant to the SURF NIST Gaithersburg Programs, career goals, honors and awards, commitment of the student to working in a laboratory environment, and interest in pursuing graduate school.

(B) Institution's Commitment to Program Goals: Evaluation of the institution's academic department(s) relevant to the discipline(s) of the student(s).

Each of these factors is given equal weight in the evaluation process.

SURF NIST Boulder Programs

DATES: All SURF NIST Boulder Program applications, paper and electronic, must be received no later than 5 p.m. Mountain Standard Time on February 16, 2010.

ADDRESSES: Paper applications for the SURF NIST Boulder Program must be submitted to: Ms. Cynthia Kotary, Administrative Coordinator, SURF NIST Boulder Programs, National Institute of Standards and Technology, 325 Broadway, Mail Stop 104, Boulder, CO 80305-3337.

FOR FURTHER INFORMATION CONTACT: Program questions should be addressed to Ms. Cynthia Kotary, Administrative Coordinator, SURF NIST Boulder Programs, National Institute of Standards and Technology, 325 Broadway, Mail Stop 104, Boulder, CO 80305-3337, Tel: (303) 497-3319, E-mail: kotary@boulder.nist.gov; Web site: http://www.nist.gov/surfboulder/. All grants related administration questions concerning this program should be directed to Hope Snowden, NIST Grants and Agreements Management Division at (301) 975-6002, or hope.snowden@nist.gov or for assistance with using Grants.gov contact support@grants.gov.

SUPPLEMENTARY INFORMATION: Electronic Access: NIST strongly encourages all applicants to read the Federal Funding Opportunity Notice (FFO) available at http://www.grants.gov for complete information about this program and its requirements, and instructions for applying by paper or electronically. A paper copy of the FFO may be obtained by calling (301) 975-6328. The Gaithersburg and Boulder SURF programs will publish separate FFOs on http://www.grants.gov.

Funding Availability: Funds budgeted for payments to students under this program are stipends, not salaries. The SURF NIST Boulder Programs will not authorize funds for indirect costs or fringe benefits. The stipend of $8000 includes a fellowship of $4500 plus $3500 for all expenses associated with travel and subsistence. Once they receive their awards, college and university grant recipients are expected to provide the full stipend to participating students in one lump sum before May 24, 2009, the start of the SURF NIST Boulder Programs. NIST will disburse funds to college and university awardees via the Automated Standard Application for Payments (ASAP) system.

The table below summarizes the anticipated funding from NSF and NIST to operate the SURF NIST Boulder Programs, broken out by Laboratory, subject to program approval and availability of NIST and/or NSF funding.

Laboratory | Anticipated NSF funding | Anticipated NIST funding | Total program funding | Anticipated number of awards
EEEL | $40,000 | $40,000 | $80,000 | 10
PL | 20,000 | 20,000 | 40,000 | 5
CSTL | 8,000 | 8,000 | 16,000 | 2
MSEL | 16,000 | 16,000 | 32,000 | 4
ITL | 4,000 | 4,000 | 8,000 | 1

The actual number of awards made under this announcement will depend on the proposed budgets and the availability of funding. For the SURF NIST Boulder Programs described in this notice, it is expected that awards to institutions will total $8000 multiplied by the number of participating students from that institution.

The SURF NIST Boulder Programs are anticipated to run from May 24, 2010 through August 6, 2010; adjustments may be made to accommodate specific academic schedules (e.g., some 11-week cooperative agreements may be shifted in order to accommodate institutions operating on quarter systems).

Statutory Authority: The authority for the SURF NIST Boulder Program is 15 U.S.C. 278g-l, which authorizes NIST to fund financial assistance awards to students at institutions of higher learning within the United States who show promise as present or future contributors to the mission of the Institute.

Eligibility: The SURF NIST Boulder Programs are open to colleges and universities in the United States and its territories with degree granting programs in materials science, chemistry, engineering, computer science, mathematics, or physics. Participating students must be U.S. citizens or permanent U.S. residents. The SURF NIST Boulder Programs focus on undergraduate fellows. Graduating seniors are eligible to participate but the likelihood of funds for their possible participation is extremely limited. Up to approximately three such participants might be considered if funds become available. If so, NIST will give priority to previous SURF participants.

Cost Sharing or Matching: The SURF NIST Boulder Program does not require any cost sharing or matching funds.

Review and Selection Process: All SURF NIST Boulder Programs proposals must be submitted to the Administrative Coordinator listed in the Addresses section above. Proposals should include the required forms listed in the FFO. Proposals must also include the following information:

(A) Student Information (student's name and university should appear on all of these documents):

(1) Student application information cover sheet;

(2) Academic transcript for each student nominated for participation (it is recommended that students have a G.P.A. of 3.0 or better, out of a possible 4.0);

(3) A statement of motivation and commitment from each student to participate in the SURF NIST Boulder Program, including a description of the student's prioritized research interests;

(4) A resume for each student;

(5) Two letters of recommendation for each student; and

(6) Confirmation of U.S. citizenship or permanent legal resident status for each student (copy of passport, green card, or birth certificate).

(B) Information About the Applicant Institution:

(1) Description of the institution's education and research programs; and

(2) A summary list of the student(s) being nominated, with one paragraph of commentary about each student from a dean or department chair that describes why the students would be successful in the SURF program.

Institution proposals will be separated into student/institution packets. Each student/institution packet will be comprised of the required application forms, including a complete copy of the student information and a complete copy of the institution information. The student/institution packets will be directed to a review committee of NIST staff appointed by the SURF NIST Boulder Directors.

First, all applications received in response to this announcement will be reviewed to determine whether or not they are complete and responsive to the scope of the stated program objectives. Incomplete or non-responsive proposals will not be reviewed for technical merit, and the applicant will be so notified. The Program will retain one copy of each non-responsive application for three years for record keeping purposes.

Second, each SURF student/university packet will be reviewed by at least three independent, objective NIST employees, who are knowledgeable in the scientific areas of the program and are able to conduct a technical review of each student/university packet based on the Evaluation Criteria described in this notice. The normalized scores based on this merit review will be averaged for each student/institution applicant packet, creating a rank order. The Selecting Official, the Acting Director of NIST Electronics and Electrical Engineering Laboratory, shall award in the rank order unless a proposal is justified to be selected out of rank order based upon one or more of the following factors: availability of funding, and balance or distribution of funds by research or technical disciplines.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decisions of the Grants Officer are final.

Unsuccessful applicants will be notified in writing. The Programs will retain one copy of each unsuccessful application for three years for record keeping purposes.

Evaluation Criteria: For the SURF NIST Boulder Programs the evaluation criteria are as follows:

(A) Evaluation of Student's Academic Ability and Commitment to Program Goals (80%): Includes evaluation of completed course work; expressed research interest; compatibility of the expressed research interest with SURF NIST Boulder research areas; research skills; grade point average in courses relevant to the SURF NIST Boulder Program; career goals; honors and activities;

(B) Evaluation of Applicant Institution's Commitment to Program Goals (20%): Includes evaluation of the institution's academic department(s) relevant to the discipline(s) of the student(s).

The following information applies to all programs announced in this notice:

The Department of Commerce Pre-Award Notification Requirements for Grants and Cooperative Agreements: The Department of Commerce Pre-Award Notification Requirements for Grants and Cooperative Agreements, which are contained in the Federal Register Notice of February 11, 2008 (73 FR 7696) are applicable to this notice. On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standards Application for Payment System (ASAP). For complex organizations with multiple EIN/TIN and DUNS numbers, the EIN/TIN and DUNS numbers MUST be the numbers for the applying organization. Organizations that provide incorrect/inconsistent EIN/TIN and DUNS numbers may experience significant delays in receiving funds if their proposal is selected for funding. Please confirm that the EIN/TIN and DUNS number are consistent with the information on the CCR and ASAP.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR part 401, 15 CFR 14.36, and in section B.21 of the Department of Commerce Pre-Award Notification Requirements, 73 FR 7696 (February 11, 2008). Questions about these requirements may be directed to the Chief Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Initial Screening of all Applications: All applications received in response to this announcement will be reviewed to determine whether or not they are complete and responsive to the scope of the stated objectives for each program. Incomplete or non-responsive applications will not be reviewed for technical merit. The Program will retain one copy of each non-responsive application for three years for record keeping purposes. The remaining copies will be destroyed.

Paperwork Reduction Act: The standard forms in the application kit involve a collection of information subject to the Paperwork Reduction Act. The use of Standard Forms 424, 424A, 424B, SF-LLL, CD-346, and SURF Program Student Applicant Information have been approved by the Office of Management and Budget (OMB) under the respective Control Numbers 0348-0043, 0348-0044, 0348-0040, 0348-0046, 0605-0001, and 0693-0042. Notwithstanding any other provision of the law, no person is required to respond to, nor shall any person be subject to a penalty for failure to comply with, a collection of information subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other Federal agencies regarding these topics, all regulatory policies and guidance adopted by DHHS, the Food and Drug Administration, and other Federal agencies on these topics, and all Presidential statements of policy on these topics.

NIST will accept the submission of human subjects protocols that have been approved by Institutional Review Boards (IRBs) possessing a current registration filed with DHHS and to be performed by entities possessing a current, valid Federal-wide Assurance (FWA) from DHHS. NIST will not issue a single project assurance (SPA) for any IRB reviewing any human subjects protocol proposed to NIST.

President Obama has issued Executive Order No. 13,505 (74 FR 10667, March 9, 2009), revoking previous Executive Orders and Presidential statements regarding the use of human embryonic stem cells in research. On July 30, 2009, President Obama issued a memorandum directing that agencies that support and conduct stem cell research adopt the “National Institutes of Health Guidelines for Human Stem Cell Research” (NIH Guidelines), which became effective on July 7, 2009, “to the fullest extent practicable in light of legal authorities and obligations.” On September 21, 2009, the Department of Commerce submitted to the Office of Management and Budget a statement of compliance with the NIH Guidelines. In accordance with the President's memorandum, the NIH Guidelines, and the Department of Commerce statement of compliance, NIST will support and conduct research using only human embryonic stem cell lines that have been approved by NIH in accordance with the NIH Guidelines and will review such research in accordance with the Common Rule and NIST implementing procedures, as appropriate. NIST will not support or conduct any type of research that the NIH Guidelines prohibit NIH from funding. NIST will follow any additional polices or guidance issued by the current Administration on this topic.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: Funding for the programs listed in this notice is contingent upon the availability of Fiscal Year 2010 appropriations. NIST issues this notice subject to the appropriations made available under the current continuing resolution, H.R. 2918, “Continuing Appropriations Resolution, 2010,” Public Law 111-68, as amended by H.R. 2996, “Further Continuing Appropriations, 2010,” Public Law 111-88. NIST anticipates making awards for the programs listed in this notice provided that funding for the programs is continued beyond December 18, 2009, the expiration of the current continuing resolution. In no event will NIST or the Department of Commerce be responsible for proposal preparation costs if these programs fail to receive funding or are cancelled because of agency priorities. Publication of this announcement does not oblige NIST or the Department of Commerce to award any specific project or to obligate any available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553(a)). Because notice and comment are not required under 5 U.S.C. 553, or any other law, for rules relating to public property, loans, grants, benefits or contracts (5 U.S.C. 553(a)), a Regulatory Flexibility Analysis is not required and has not been prepared for this notice, 5 U.S.C. 601 et seq.

Dated: December 10, 2009.
Jason Boehm,
Acting Director, NIST Program Office.

[FR Doc. E9-29823 Filed 12-14-09; 8:45 am]

BILLING CODE 3510-13-P